DEPARTMENT OF ENERGY

Federal Energy Regulatory Commission

Combined Notice of Filings

Take notice that the Commission has received the following Natural Gas Pipeline Rate and Refund Report filings:

Filings Instituting Proceedings

Docket Numbers: RP17-661-000.

Applicants: Centra Pipelines Minnesota Inc.

Description: Centra Pipelines Minnesota Inc. submits tariff filing per 154.204: Updated Shipper Index April 2017 to be effective 6/1/2017.

Filed Date: 04/18/2017.

Accession Number: 20170418-5233.

Comment Date: 5:00 p.m. Eastern Time on Monday, May 01, 2017.

Docket Numbers: RP17-662-000.

Applicants: Cameron Interstate Pipeline, LLC.

Description: Cameron Interstate Pipeline, LLC submits tariff filing per 154.204: Cameron Interstate Pipeline Off-System Capacity Tariff Filing to be effective 5/19/2017.

Filed Date: 04/18/2017.

Accession Number: 20170418-5253.

Comment Date: 5:00 p.m. Eastern Time on Monday, May 01, 2017.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 19, 2017.
Kimberly D. Bose,
Secretary.

[FR Doc. 2017-08335 Filed 4-24-17; 8:45 am]

BILLING CODE 6717-01-P